DEPARTMENT OF THE INTERIOR

Fish and Wildlife Service

[FWS-R6-R-2017-N074; FXRS12610600000-178-FF06R00000]

Notice of Intent To Prepare a Comprehensive Conservation Plan for the National Bison Range, Moiese, Montana

AGENCY: Fish and Wildlife Service, Interior.

ACTION: Revised notice of intent; request for comments.

SUMMARY: We, the U.S. Fish and Wildlife Service (Service), are revising a previously published notice of intent to prepare a draft Comprehensive Conservation Plan (CCP) for the National Bison Range (NBR), with headquarters in Moiese, Montana. We are revising the original January 2017 Federal Register notice to provide an additional opportunity for input and to share with the public that we intend to move in a different direction than that indicated by the earlier notice. Specifically, due to the variety of information and perspectives received during the comment period and a change in policy direction, we will not proceed with evaluating a preferred alternative of legislative transfer of the NBR. With this notice, we request comments in order to obtain suggestions and information on a revised scope of issues to be considered in the planning process.

DATES: To ensure consideration, written comments must be received or postmarked on or before June 19, 2017.

ADDRESSES: If you wish to comment on the scope of the CCP/EIS, you may submit your comments by one of the following methods:

Email: scoping_NBR@fws.gov.

U.S. Mail or Hand-Delivery: Toni Griffin, Refuge Planner, NBR CCP, 134 Union Boulevard, Lakewood, CO 80228.

FOR FURTHER INFORMATION CONTACT: Toni Griffin, Refuge Planner, NBR CCP, 134 Union Boulevard, Lakewood, CO 80228, or by telephone (303) 236-4378.

SUPPLEMENTARY INFORMATION: We, the U.S. Fish and Wildlife Service (Service), are revising the Notice of Intent to prepare a draft Comprehensive Conservation Plan (CCP) for the National Bison Range (NBR), with headquarters in Moiese, Montana. With a notice published in the Federal Register on January 18, 2017 (82 FR 5597), we initiated a process for developing a CCP for the NBR. We are revising the original notice of intent to provide an additional opportunity for input and to share with the public that we intend to move in a different direction than that indicated by the January 2017 notice. Specifically, due to the variety of information and perspectives received during the comment period and a change in policy direction, we will not proceed with evaluating a preferred alternative of legislative transfer of the NBR. With this notice, we request comments in order to obtain suggestions and information on a revised scope of issues to be considered in the planning process. The CCP will describe the desired future conditions of the refuge and provide long-range guidance and management direction on how best to achieve refuge purposes.

Introduction

The notice complies with our CCP policy to (1) advise other Federal and State agencies, Tribes, and the public of our intention to conduct planning on this refuge and (2) to obtain suggestions and information on the scope of additional issues to consider during development of the CCP. Through the CCP, we intend to evaluate how we will manage NBR. Participation in the planning process will be encouraged and facilitated by various means, including news releases and public meetings. Notification of all such meetings will be announced in the local press and on the NBR Web site.

Background

The CCP Process

The National Wildlife Refuge System Administration Act of 1966, (Administration Act), as amended by the National Wildlife Refuge System Improvement Act of 1997 (16 U.S.C. 668dd-668ee), requires us to develop a CCP for each national wildlife refuge. The purpose of a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

We will conduct environmental review pursuant to the provisions of the National Environmental Policy Act of 1969 (42 U.S.C. 4321 et seq.), by preparing an environmental impact statement (EIS). The Service intends to invite the Confederated Salish and Kootenai Tribes (CSKT) to participate as a cooperating agency as provided by 40 CFR 1508.5.

We will prepare a CCP and EIS which will describe how we will manage NBR over the next 15 years. To facilitate sound planning and environmental assessment, we intend to gather information necessary for the preparation of the CCP/EIS and obtain suggestions and information from other agencies, municipalities, and the public on the scope of issues to be addressed in the CCP/EIS. We will separately consider CCPs for Pablo, Lost Trail, and Ninepipe National Wildlife Refuges, and the Northwest Montana Lake County Wetland Management District and the waterfowl production areas therein, which are also part of the National Bison Range Complex.

The National Bison Range

In 1908, the first purchase of land for the exclusive protection of wildlife occurred when Congress appropriated money for the establishment of NBR. The overall mission of the NBR is to maintain a representative herd of bison, under reasonably natural conditions, to ensure the preservation of the species for continued public enjoyment. The NBR is 18,800 acres and supports between 350 and 500 bison. The National Bison Range lies entirely within the boundary of the Flathead Indian Reservation of the Confederated Salish and Kootenai Tribes (CSKT). Members of the CSKT have a cultural, historical, or geographic connection to the land and resources of the NBR.

Additional Information

The mission for NBR, and purposes for which it was established, are used to develop and prioritize management goals and objectives within the National Wildlife Refuge System mission, and to guide which public uses will occur on the Refuge. The planning process is a way for the Service and the public to evaluate management goals and objectives for the best possible conservation efforts of this important wildlife habitat while providing for wildlife-dependent recreation opportunities that are compatible with the Refuges' establishing purposes and the mission of the National Wildlife Refuge System. We will conduct a CCP process that will provide opportunity for tribal, State, and local governments; Federal and State agencies; organizations; and the public to participate in issue scoping and public comment. We are requesting input on issues, concerns, ideas, and suggestions for the future management of NBR.

Public Availability of Comments

Before including your address, phone number, email address, or other personal identifying information in your comment, you should be aware that your entire comment—including your personal identifying information—may be made publicly available at any time. While you can ask us in your comment to withhold your personal identifying information from public review, we cannot guarantee that we will be able to do so.

Dated: April 26, 2017.
Anna Munoz,
Acting Regional Director, U.S. Fish and Wildlife Service, Denver, Colorado.

[FR Doc. 2017-10110 Filed 5-17-17; 8:45 am]

BILLING CODE 4310-15-P